NUCLEAR REGULATORY COMMISSION

[NRC-2010-0018]

Final Regulatory Guide: Issuance, Availability

AGENCY: Nuclear Regulatory Commission.

ACTION: Notice of Issuance and Availability of Regulatory Guide 8.18, Revision 2, “Information Relevant to Ensuring that Occupational Radiation Exposures at Medical Institutions will be As Low As is Reasonably Achievable.”

FOR FURTHER INFORMATION CONTACT: Hector L. Rodriguez-Luccioni, U.S. Nuclear Regulatory Commission, Washington, DC 20555-0001, telephone: 301-251-7685 or e-mail: Hector.Rodriguez-Lucionni@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 8.18, “Information Relevant to Ensuring that Occupational Radiation Exposures at Medical Institutions will be As Low As is Reasonably Achievable,” was issued with a temporary identification as Draft Regulatory Guide, DG-8037.

This guide is directed specifically toward medical licensees and recommends methods that the staff of the NRC considers acceptable to maintain occupational exposures as low as is reasonably achievable (ALARA) in medical institutions. In a medical institution, certain persons other than employees are exposed to radiation from licensed radioactive material. These persons include visitors and patients other than those being treated with radioactive material. This guide addresses the protection of these individuals. The content of this guide is also applicable to veterinary medical institutions, insofar as specific diagnostic or therapeutic procedures are performed. Similar protection practices are applicable for keeping employee and visitor exposures ALARA, whether the patients are animal or human.

II. Further Information

In January 2010, DG-8037 was published with a public comment period of 60 days from the issuance of the guide. The public comment period closed on March 19, 2010.

You can access publicly available documents related to this notice using the following methods:

NRC's Public Document Room (PDR): The public may examine and copy (for a fee) publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/doc-collections/. From this page, the public can gain entry into ADAMS, which provides text and image files of NRC's public documents (http://www.nrc.gov/reading-rm/adams.html). If you do not have access to ADAMS or if there are problems in accessing the documents located in ADAMS, contact the NRC's PDR reference staff at 1-800-397-4209, 301-415-4737, or by e-mail to pdr.resource@nrc.gov. Regulatory Guide 8.18, Revision 2 is available electronically under ADAMS Accession Number ML102350460. The regulatory analysis may be found under ADAMS Accession Number ML102350474 and the staff's responses to the public comments received are located under Accession Number ML102350467.

Federal Rulemaking Website: Public comments and supporting materials related to this notice can be found at http://www.regulations.gov by searching on Docket ID: NRC-2010-0018.

FOR FURTHER INFORMATION CONTACT: Hector L. Rodriguez-Luccioni, Project Manager, Regulatory Guide Development Branch, Division of Engineers, Office of Nuclear Regulatory Research, U.S. Nuclear Regulatory Commission, Mail Stop: CSB-02A07M, Washington, DC 20555-0001. Telephone: (301) 251-7685; fax number: (301) 251-7422; e-mail: Hector.Rodriguez-Lucionni@nrc.gov.

Regulatory guides are not copyrighted, and Commission approval is not required to reproduce them.

Dated at Rockville, Maryland, this 28th day of April, 2011.
For the Nuclear Regulatory Commission.
Harriet Karagiannis,
Acting Chief, Regulatory Guide Development Branch, Division of Engineering, Office of Nuclear Regulatory Research.

[FR Doc. 2011-10876 Filed 5-4-11; 8:45 am]

BILLING CODE 7590-01-P